DEPARTMENT OF AGRICULTURE

Rural Housing Service

Notice of Funds Availability (NOFA) for Section 514 Farm Labor Housing Loans and Section 516 Farm Labor Housing Grants for Off-Farm Housing for Fiscal Year 2007

Announcement Type: Initial Notice inviting applications from qualified applicants for Fiscal Year 2007.

Catalog of Federal Domestic Assistance Numbers (CFDA): 10.405 and 10.427.

SUMMARY: This NOFA announces the timeframe to submit applications for section 514 Farm Labor Housing (FLH) loans and section 516 FLH grants for the construction of new off-farm FLH units and related facilities for domestic farm laborers. The intended purpose of these loans and grants is to increase the number of available housing units for domestic farm laborers. Applications may also include requests for section 521 rental assistance (RA) and operating assistance for migrant units. This document describes the method used to distribute funds, the application process, and submission requirements.

DATES: The deadline for receipt of all applications in response to this NOFA is 5 p.m., local time for each Rural Development State Office on June 18, 2007. The application closing deadline is firm as to date and hour. The Agency will not consider any application that is received after the closing deadline. Applicants intending to mail applications must provide sufficient time to permit delivery on or before the closing deadline. Acceptance by a post office or private mailer does not constitute delivery. Facsimile (FAX), COD, and postage due applications will not be accepted.

Intergovernmental Review

The construction of new section 516 off-farm FLH is subject to the Intergovernmental Review provisions of 7 CFR part 3015, subpart V which requires intergovernmental consultation with State and local officials.

Submission Address

Applicants wishing to apply for assistance must contact the Rural Development State Office serving the place in which they desire to submit an application for off-farm labor housing to receive further information and copies of the application package. Rural Development will date and time stamp incoming applications to evidence timely receipt, and, upon request, will provide the applicant with a written acknowledgment of receipt. A listing of Rural Development State Offices, their addresses, telephone numbers, and person to contact follows:

Note: Telephone numbers listed are not toll-free.

Alabama State Office

Suite 601, Sterling Center 4121 Carmichael Road, Montgomery, AL 36106-3683, (334) 279-3455 TDD (334)279-3495, James B. Harris.

Alaska State Office

800 West Evergreen, Suite 201, Palmer, AK 99645, (907)761-7740 TDD (907)761-8905, Debbie Andrys.

Arizona State Office

Phoenix Courthouse and Federal Building, 230 North First Ave., Suite 206, Phoenix, AZ 85003-1706, (602)280-8766 TDD (602)280-8770, Kathy Wilhelm.

Arkansas State Office

700 W. Capitol Ave., Rm. 3416, Little Rock, AR 72201-3225, (501)301-3250 TDD (501)301-3063, Clinton King.

California State Office

430 G Street, #4169, Davis, CA 95616-4169, (530) 792-5830 TDD (530) 792-5848, Debra Moretton.

Colorado State Office

655 Parfet Street, Room E100, Lakewood, CO 80215, (720) 544-2923 TDD (800)659-2656, Mary Summerfield.

Connecticut

Served by Massachusetts State Office.

Delaware State Office

1221 College Park Drive, Suite 200, Dover, DE 19904, (302) 857-3615 TDD (302) 857-3585, Pat Baker.

Florida & Virgin Islands State Office

4440 NW. 25th Place, Gainesville, FL 32606-6563, (352) 338-3465 TDD (352) 338-3499, Elizabeth M. Whitaker.

Georgia State Office

Stephens Federal Building, 355 E. Hancock Avenue Athens, GA 30601-2768, (706) 546-2164 TDD (706) 546-2034, Wayne Rogers.

Hawaii State Office

(Services all Hawaii, American Samoa, Guam and Western Pacific), Room 311, Federal Building, 154 Waianuenue Avenue, Hilo, HI 96720, (808) 933-8305 TDD (808) 933-8321, Jack Mahan.

Illinois State Office

2118 W. Park Court, Suite A, Champaign, IL 61821-2986, (217) 403-6222 TDD (217) 403-6240, Barry L. Ramsey.

Indiana State Office

5975 Lakeside Boulevard, Indianapolis, IN 46278, (317) 290-3100 (ext. 423) TDD (317) 290-3343, Stephan Dye.

Iowa State Office

210 Walnut Street Room 873, DesMoines, IA 50309, (515) 284-4685 TDD (515) 284-4858, Julie Sleeper.

Kansas State Office

1303 SW. First American Place, Suite 100, Topeka, KS 66604-4040, (785) 271-2721 TDD (785) 271-2767, Virginia M. Hammersmith.

Kentucky State Office

771 Corporate Drive, Suite 200, Lexington, KY 40503, (859) 224-7325 TDD (859) 224-7422, Paul Higgins.

Louisiana State Office

3727 Government Street, Alexandria, LA 71302, (318) 473-7962 TDD (318) 473-7655, Yvonne R. Emerson.

Maine State Office

967 Illinois Ave., Suite 4, PO Box 405, Bangor, ME 04402-0405, (207) 990-9110 TDD (207) 942-7331, Bob Nadeau.

Maryland

Served by Delaware State Office.

Massachusetts State Office

451 West Street, Amherst, MA 01002, (413) 253-4315 TDD (413) 253-4590, Paul Geoffroy.

Michigan State Office

3001 Coolidge Road, Suite 200, East Lansing, MI 48823, (517) 324-5192 TDD (517) 337-6795, Ghulam R. Sumbal.

Minnesota State Office

375 Jackson Street Building, Suite 410, St. Paul, MN 55101, (651) 602-7782 TDD (651) 602-7826, Peter Lundquist.

Mississippi State Office

Federal Building, Suite 831, 100 W. Capitol Street, Jackson, MS 39269, (601) 965-4325 TDD (601) 965-5850, Darnella Smith-Murray.

Missouri State Office

601 Business Loop 70 West, Parkade Center, Suite 235, Columbia, MO 65203, (573) 876-9305 TDD (573) 876-9480, Colleen James.

Montana State Office

900 Technology Blvd., Suite B, Bozeman, MT 59718, (406) 585-2515 TDD (406) 585-2562, Deborah Chorlton.

Nebraska State Office

Federal Building, Room 152, 100 Centennial Mall N., Lincoln, NE 68508, (402) 437-5594 TDD (402) 437-5093, Phil Willnerd.

Nevada State Office

1390 South Curry Street, Carson City, NV 89703-5146, (775) 887-1222 (ext. 25) TDD (775) 885-0633, Angilla Denton.

New Hampshire State Office

Concord Center, Suite 218, Box 317, 10 Ferry Street, Concord, NH 03301-5004, (603) 223-6046 TDD (603) 229-0536, Jim Fowler.

New Jersey State Office

5th Floor North, Suite 500, 8000 Midlantic Dr., Mt. Laurel, NJ 08054, (856) 787-7740 TDD (856) 787-7784, George Hyatt, Jr.

New Mexico State Office

6200 Jefferson St., NE., Room 255, Albuquerque, NM 87109, (505) 761-4944 TDD (505) 761-4938, Carmen N. Lopez.

New York State Office

The Galleries of Syracuse, 441 S. Salina Street, Suite 357, Syracuse, NY 13202, (315) 477-6419 TDD (315) 477-6447, George N. Von Pless.

North Carolina State Office

4405 Bland Road, Suite 2120, Raleigh, NC 271209, (919) 873-2066 TDD (919) 873-2003, Bill Hobbs.

North Dakota State Office

Federal Building, Room 208, 220 East Rosser, P.O. Box 1737, Bismarck, ND 58502, (701) 530-2049 TDD (701) 530-2113, Kathy Lake.

Ohio State Office

Federal Building, Room 507, 200 North High Street, Columbus, OH 43215-2477, (614) 255-2418 TDD (614) 255-2554, Melodie Taylor-Ward.

Oklahoma State Office

100 USDA, Suite 108, Stillwater, OK 74074-2654, (405) 742-1070 TDD (405) 742-1007, Ivan Graves.

Oregon State Office

1201 NE Lloyd Blvd., Suite 801, Portland, OR 97232, (503) 414-3325 TDD (503) 414-3387, Margo Donelin.

Pennsylvania State Office

One Credit Union Place, Suite 330, Harrisburg, PA 17110-2996, (717) 237-2282 TDD (717) 237-2261, Martha E. Hanson.

Puerto Rico State Office

IBM Building, 654 Munoz Rivera Ave., Suite 601, San Juan, PR 00918, (787) 766-5095 (ext. 254) TDD 1-800-274-1572, Lourdes Colon.

Rhode Island

Served by Massachusetts State Office.

South Carolina State Office

Strom Thurmond Federal Building, 1835 Assembly Street, Room 1007, Columbia, SC 29201, (803) 253-3432 TDD (803) 765-5697, Larry D. Floyd.

South Dakota State Office

Federal Building, Room 210, 200 Fourth Street, SW, Huron, SD 57350, (605) 352-1132 TDD (605) 352-1147, Roger Hazuka or Pam Reilly.

Tennessee State Office

3322 West End Avenue, Suite 300, Nashville, TN 37203-1084, (615) 783-1375 TDD (615) 783-1397, Donald Harris.

Texas State Office

101 South Main St., Suite 102, Temple, TX 76501, (254) 742-9758 TDD (254) 742-9712, Julie Hayes.

Utah State Office

Wallace F. Bennett Federal Building, 125 S. State Street, Room 4311, Salt Lake City, UT 84138, (801) 524-4325 TDD (801) 524-3309, Janice Kocher.

Vermont State Office

City Center, 3rd Floor, 89 Main Street, Montpelier, VT 05602, (802) 828-6021 TDD (802) 223-6365, Heidi Setien.

Virgin Islands

Served by Florida State Office.

Virginia State Office

Culpeper Building, Suite 238, 1606 Santa Rosa Road, Richmond, VA 23229, (804) 287-1596 TDD (804) 287-1753, CJ Michels.

Washington State Office

1835 Black Lake Blvd., Suite B, Olympia, WA 98512, (360) 704-7730 TDD (360) 704-7760, Robert Lund.

Western Pacific Territories

Served by Hawaii State Office.

West Virginia State Office

75 High Street, Room 320, Morgantown, WV 26505-7500, (304) 284-4872 TDD (304) 284-4836, David Cain.

Wisconsin State Office

4949 Kirschling Court, Stevens Point, WI 54481, (715) 345-7608 (ext. 7145) TDD (715) 345-7614, Peter Kohnen.

Wyoming State Office

P.O. Box 11005, Casper, WY 82602-6733, (307) 233-6715 TDD (307) 233-6733, Jack Hyde.

FOR FURTHER INFORMATION CONTACT: Henry Searcy, Senior Loan Specialist, Multi-Family Housing Processing Division—STOP 0781 (Room 1263-S) , U.S. Department of Agriculture—Rural Housing Service, 1400 Independence Ave. SW, Washington, DC 20250-0781, by telephone at (202) 720-1604 (This is not a toll free number.) , or via e-mail at Henry.Searcy@wdc.usda.gov.

SUPPLEMENTARY INFORMATION:

Overview

Paperwork Reduction Act

The reporting requirements contained in this NOFA have been approved by the Office of Management and Budget under Control Number 0575-0045.

The FLH program is authorized by the Title V Housing Act of 1949: section 514 (42 U.S.C. 1484) for loans and section 516 (42 U.S.C. 1486) for grants. Tenant subsidies in the form of RA are available through section 521 (42 U.S.C. 1490a) . Sections 514 and 516 provide Rural Housing Service (RHS) the authority to make loans and grants for financing off-farm housing to broad-based nonprofit organizations, nonprofit organizations of farmworkers, federally recognized Indian tribes and agencies or political subdivisions of State or local government. In addition, loans may be made to limited partnerships in which the general partner is a nonprofit entity.

Program Administration

I. Funding Opportunities Description

Funding for this program comes in the form of a loans, grants and rental assistance. Housing that is constructed with these loans and grants must meet the Agency design and construction standards contained in 7 CFR part 1924, subparts A and C. Once constructed, off-farm FLH must be managed in accordance with the program's regulation, at 7 CFR part 3560. Tenant eligibility is limited to persons who meet the definition of a “domestic farm laborer”, a “retired domestic farm laborer,” or a “disabled domestic farm laborer,” as defined in 7 CFR 3560.11. Farmworkers who are admitted to this country on a temporary basis under the Temporary Agricultural Workers (H-2A Visa) program are not eligible to occupy section 514/516 off-farm FLH.

Operating assistance may be used in lieu of tenant-specific rental assistance in off-farm labor housing projects financed under section 514 or section 516(i) of the Housing Act of 1949 (U.S.C. 1486(i)) that serve migrant farmworkers. To be eligible for the operating assistance, projects must be off-farm FLH projects financed under section 514 or section 516 with units that are for migrant farmworkers (housing units for year-round farmworker households are ineligible) and must otherwise meet the requirements of 7 CFR 3560.574. “Migrants or migrant agricultural laborer” is defined in 7 CFR 3560.11 Owners of eligible projects may choose tenant-specific RA or operating assistance, or a combination of both; however, any tenant or unit assisted with operating assistance may not also receive RA.

II. Award Information

Applications for Fiscal Year (FY) 2007 will only be accepted through the date and time listed in this NOFA.

Because RHS has the ability to adjust loan and grant levels, final loan and grant levels will fluctuate. The estimated funds available for FY 2007 for off-farm housing are: section 514, $31,937,082 and section 516, $10,491,000.

Individual requests may not exceed $3 million (total loan and grant). If RA is available, it will be held in the National Office and will be awarded based on each project's financial structure and need. Section 516 off-farm FLH grants may not exceed 90 percent of the total development cost of the housing. Applications that require leveraged funding must have firm commitments in place for all of the leveraged funding within 1 year of the issuance of a “Notice of Preapplication Review Action,” Form AD-622. In order to be eligible for leveraged funding selection points, the commitment for leveraged funds must be submitted with the initial preapplication. If leverage funds are in the form of tax credits, the applicant must document a history of receiving tax credits.

III. Eligibility Information

Applicant Eligibility

(1) To be eligible to receive a section 516 grant for off-farm FLH, the applicant must be a broad-based nonprofit organization, a nonprofit organization of farm workers, a federally recognized Indian tribe, an agency or political subdivision of a State or local government, or a public agency (such as a housing authority).

(2) To be eligible to receive a section 514 loan for off-farm FLH, the applicant must be a broad-based nonprofit organization, a nonprofit organization of farm workers, a federally recognized Indian tribe, an agency or political subdivision of a State or local government, a public agency (such as a housing authority), or a limited partnership which has a nonprofit entity as its sole general partner and:

(a) Be unable to provide the necessary housing from its own resources; and

(b) Except for State or local public agencies and Indian tribes, be unable to obtain similar credit elsewhere at rates that would allow for rents within the payment ability of eligible residents.

(3) Broad-based nonprofit organizations must have a membership that reflects a variety of interests in the area where the housing will be located.

Cost Sharing or Matching

Section 516 grants for off-farm FLH may not exceed the lesser of 90 percent of the total development cost or the amount provided in 7 CFR 3560.562(c)(2).

Other Administrative Requirements

The following policies and regulations apply to loans and grants made in response to this NOFA:

(1) The equal opportunity requirements contained in 7 CFR part 1901, subpart E regarding equal opportunity requirements;

(2) The requirements of 7 CFR part 3015, and 7 CFR part 3016 or 7 CFR part 3019 (as applicable), which establish the uniform administrative requirements for grants and cooperative agreements to State and local governments and to non-profit organizations;

(3) The requirements of 7 CFR part 1901, subpart F regarding historical and archaeological properties;

(4) The environmental assessment requirements contained in 7 CFR part 1940, subpart G regarding environmental assessments;

(5) The requirements contained in 7 CFR part 3560, subpart L regarding the loan and grant authorities of the off-farm FLH program;

(6) The requirements contained in 7 CFR part 1924, subpart A regarding planning and construction;

(7) The requirements contained in 7 CFR part 1924, subpart C regarding the planning and performing of site development work; and

(8) All requirements contained in 7 CFR part 3560 regarding the section 514/516 off-farm FLH program.

IV. Application and Submission Information

The application process will be in two phases: the initial preapplication (or proposal) and the submission of a formal application. Only those proposals that are selected for funding will be invited to submit formal applications. In the event that a proposal is selected for further processing and the applicant declines, the next highest ranked unfunded preapplication may be selected.

All preapplications for sections 514 and 516 funds must be filed with the appropriate Rural Development State Office and must meet the requirements of this NOFA. Incomplete preapplications will not be reviewed and will be returned to the applicant. No preapplication will be accepted after 5 p.m., local time for each Rural Development State Office on June 18, 2007 unless date and time is extended by another NOFA published in the Federal Register.

If a preapplication is accepted for further processing, the applicant will be expected to submit a complete, formal application prior to the obligation of Agency funds.

Preapplication Requirements

The preapplication must contain the following:

(1) A summary page listing the following items. This information should be double-spaced between items and not be in narrative form.

(a) Applicant's name.

(b) Applicant's Taxpayer Identification Number.

(c) Applicant's address.

(d) Applicant's telephone number.

(e) Name of applicant's contact person, telephone number, and address.

(f) Amount of loan and grant requested.

(g) For grants, the applicant's Dun and Bradstreet Data Universal Numbering System (DUNS) number. As required by the Office of Management and Budget (OMB), all grant applicants must provide a DUNS number when applying for Federal grants, on or after October 1, 2003. Organizations can receive a DUNS number at no cost by calling the dedicated toll-free DUNS Number request line at 1-866-705-5711. Additional information concerning this requirement is provided in a policy directive issued by OMB and published in the Federal Register on June 27, 2003 (68 FR 38402-38405).

(2) A description of the applicant's ability to meet the eligibility requirements stated in this NOFA.

(3) Application for Federal Assistance (Standard Form 424) which can be found online at http://www.whitehouse.gov/omb/grants/sf424.pdf.

(4) A current, dated, and signed financial statement showing assets and liabilities with information on the repayment schedule and status of all debts.

(5) Evidence that the applicant is unable to obtain credit from other sources. Letters from credit institutions who normally provide real estate loans in the area should be obtained and these letters should indicate the rates and terms upon which a loan might be provided.

Note: Not required from State or local public agencies or Indian tribes.

)

(6) A statement concerning the need for a labor housing grant. The statement should include preliminary estimates of the rents required with and without a grant.

(7) A statement of the applicant's experience in operating labor housing or other rental housing. If the applicant's experience is limited, additional information should be provided to indicate how the applicant plans to compensate for this limited experience (i.e., obtaining assistance and advice of a management firm, non-profit group, public agency, or other organization which is experienced in rental management and will be available on a continuous basis).

(8) A brief statement explaining the applicant's proposed method of operation and management (i.e., on-site manager, contracting for management services, etc.). As stated in this NOFA:

(a) The housing must be managed in accordance with the program's management regulation, found in 7 CFR part 3560; and

(b) Tenancy is limited to “domestic farm laborers,” “retired dometic farm laborers,” and “disabled domestic farm laborers” as defined 7 CFR 3560.

(9) Applicants must provide:

(a) A copy of, or an accurate citation to, the special provisions of State law under which they are organized, a copy of the applicant's charter, their Articles of Incorporation, and their By-laws;

(b) The names, occupations, and addresses of the applicant's members, directors, and officers; and

(c) If a member or subsidiary of another organization, the organization's name, address, and nature of business.

(10) A preliminary survey to identify the supply and demand for labor housing in the market area. The market area must be clearly identified and may include only the area from which tenants can reasonably be drawn for the proposed project. Documentation must be provided to justify a need within the intended market area for housing for “domestic farm laborers”, as defined in this NOFA. The preliminary survey should address or include the following items:

(a) The annual income level of farmworker families in the area and the probable income of the farm workers who are apt to occupy the proposed housing;

(b) A realistic estimate of the number of farm workers who are home-based in the area and the number of farm workers who normally migrate into the area. Information on migratory workers should indicate the average number of months the migrants reside in the area and an indication of what type of family groups are represented by the migrants (i.e., single individuals as opposed to families);

(c) General information concerning the type of labor intensive crops grown in the area and prospects for continued demand for farm laborers (i.e., prospects for mechanization, etc.);

(d) The overall occupancy rate for comparable rental units in the area and the rents charged and customary rental practices for these units (i.e., will they rent to large families, do they require annual leases, etc.);

(e) The number, condition, adequacy, rental rates and ownership of units currently used or available to farm workers;

(f) A description of the units proposed, including the number, type, size, rental rates, amenities such as carpets and drapes, related facilities such as a laundry room or community room and other facilities providing supportive services in connection with the housing and the needs of the prospective tenants such as a health clinic or day care facility, estimated development timeline, estimated total development cost, and applicant contribution; and

(g) The applicant must also identify all other sources of funds, including the dollar amount, source, and commitment status. (Note: A section 516 grant may not exceed 90 percent of the total development cost of the housing.)

(11) A completed Form RD 1940-20, “Request for Environmental Information,” and a description of anticipated environmental issues or concerns. The form can be found online at http://www.rurdev.usda.gov/regs/forms/1940-20.pdf.

(12) A prepared HUD 935.2, “Affirmative Fair Housing Marketing Plan.” The plan will reflect that occupancy is open to all qualified “domestic farm laborers,” regardless of which farming operation they work and that they will not discriminate on the basis of race, color, sex, age, disability, marital or familial status or National origin in regard to the occupancy or use of the units. The form can be found online at http://www.hudclips.org/sub_nonhud/html/pdfforms/935-a.pdf.

(13) Evidence of site control such as an option or sales contract. In addition, a map and description of the proposed site, including the availability of water, sewer, and utilities and the proximity to community facilities and services such as shopping, schools, transportation, doctors, dentists, and hospitals.

(14) Preliminary plans and specifications, including plot plans, building layouts, and type of construction and materials. The housing must meet the Agency's design and construction standards contained in 7 CFR part 1924, subparts A and C and must also meet all applicable Federal, State, and local accessibility standards.

(15) A Supportive Services Plan describing services that will be provided on-site or made available to tenants through cooperative agreements with service providers in the community, such as a health clinic or day care facility. Off-site services must be accessible and affordable to farm workers and their families. Letters of intent from service providers are acceptable documentation at the preapplication stage.

(16) A proposed operating budget utilizing Form RD 3560-7, “Multiple Family Housing Project Budget/Utility Allowance.” The form can be found online at http://www.rurdev.usda.gov/regs/forms/3560-07.pdf.

(17) An estimate of development cost utilizing Form RD 1924-13, “Estimate and Certificate of Actual Cost.” The form can be found online at http://www.rurdev.usda.gov/regs/forms/1924-13.pdf.

(18) Form RD 3560-30, “Certification of No Identity of Interest (IOI)” and Form RD 3560-31, “Identity of Interest Disclosure/Qualification Certification.” These forms can be found online at http://www.rurdev.usda.gov/regs/fmi/fm3560-30.pdf and http://www.rurdev.usda.gov/regs/fmi/fm3560-31.pdf, respectively.

(19) Form HUD 2530, “Previous Participation Certification.” The form can be found online at http://www.hudclips.org/sub?nonhud/html/pdfforms/2530.pdf.

(20) If requesting RA or Operating Assistance, Form RD 3560-25, “Initial Request for Rental Assistance or Operating Assistance.” The form can be found online at http://www.rurdev.usda.gov/regs/forms/3560-25.pdf.

(21) A Sources and Uses Statement showing all sources of funding included in the proposed project. The terms and schedules of all sources included in the project should be included in the Sources and Uses Statement.

(22) A separate one-page information sheet listing each of the “Application Scoring Criteria” contained in this NOFA, followed by the page numbers of all relevant material and documentation that is contained in the proposal that supports the criteria.

(23) Applicants are encouraged, but not required, to include a checklist of all of the application requirements and to have their application indexed and tabbed to facilitate the review process.

V. Application Review Information

All applications for sections 514 and 516 funds must be filed with the appropriate Rural Development State Office and must meet the requirements of this NOFA.

Selection Criteria

Section 514 loan funds and section 516 grant funds will be distributed to States based on a national competition, as follows:

(1) States will accept, review, and score requests in accordance with the NOFA. The scoring factors are:

(a) The presence and extent of leveraged assistance, including donated land, for the units that will serve program-eligible tenants, calculated as a percentage of the RHS total development cost (TDC). RHS TDC excludes non-RHS eligible costs such as a developer's fee. Leveraged assistance includes, but is not limited to, funds for hard construction costs, section 8 or other non-RHS tenant subsidies, and state or federal funds. A minimum of ten percent leveraged assistance is required to earn points; however, if the total percentage of leveraged assistance is less than ten percent and the proposal includes donated land, two points will be awarded for the donated land. To count as leveraged funds for purposes of the selection criteria, a commitment of funds must be provided with the preapplication. Points will be awarded in accordance with the following table percentages will be rounded to the next higher or lower number. (0 to 20 points)

Percentage | Points
75 or more | 20
60-74 | 18
50-59 | 16
40-49 | 12
30-39 | 10
20-29 | 8
10-19 | 5
0-9 | 0

Donated land in proposals with less than ten percent total leveraged assistance: 2 points

(b) Percent of units for seasonal, temporary, migrant housing. (5 points for up to and including 50 percent of the units; 10 points for 51 percent or more.)

(c) The selection criteria includes one optional criteria set by the National Office. The National Office initiative will be used in the selection criteria as follows: Up to 10 points will be awarded based on the presence of and extent to which a tenant services plan exists that clearly outlines services that will be provided to the residents of the proposed project. These services may include, but are not limited to, transportation related services, on-site English as a Second Language (ESL) classes, move-in funds, emergency assistance funds, homeownership counseling, food pantries, after school tutoring, and computer learning centers. Two points will be awarded for each resident service included in the tenant services plan up to a maximum of 10 points. Plans must detail how the services are to be administered, who will administer them, and where they will be administered. All tenant service plans must include letters of intent that clearly state the service that will be provided at the project for the benefit of the residents from any party administering each service, including the applicant. (0 to 10 points)

(d) In an effort to implement USDA's nationwide initiative to promote renewable energy and energy conservation, Rural Development (RD) has adopted incentives for energy generation and energy conservation. Participation in these nationwide initiatives is voluntary, but is strongly encouraged.

Energy Generation. Applicants will be awarded points if the proposal includes the installation of energy generation systems to be funded by a third party. The proposal must include an overview of the energy generation system being proposed. Evidence that an energy generation system has been funded by a third party and that it has a quantifiable positive impact on energy consumption will be required. (5 points)

Energy Conservation. Applicants will be awarded points to construct (or substantially rehabilitate) housing that earns the ENERGY STAR label for new residential construction. Units earning the ENERGY STAR label must be independently verified to meet guidelines for energy efficiency as set by the U.S. Environmental Protection Agency. All procedures used in verifying a unit for the ENERGY STAR label must comply with National Home Energy Ratings System (HERS) guidelines. ENERGY STAR guidelines for residential construction apply to homes that are three stories or less and single or low-rise multi-family residential buildings.

The Applicant will include in the narrative an explanation of how they plan to incorporate ENERGY STAR. Construction plans pertaining to energy efficiency must be developed with, reviewed, and accepted by a HERS certified rater, the contractor, and the owner. Progress inspections must be made at appropriate times by a HERS certified rater to ensure that the housing is being constructed or rehabilitated according to ENERGY STAR specifications. In order to receive final payment, applicants will be required to submit the appropriate rating reports from the HERS rater to RD as evidence that the housing has been constructed to meet the standards of ENERGY STAR. In the event that housing does not meet ENERGY STAR guidelines for new residential construction, the Agency shall, at its discretion, deduct 5 points from future funding proposals. For further information about ENERGY STAR, see http://www.energystar.gov or call the following toll-free numbers: (888) 782-7939 or (888) 588-9920 (TTY). (5 points)

(2) Rural Development States Offices will conduct the preliminary eligibility review, score the applications, and forward them to the National Office.

(3) The National Office will rank all requests nationwide and distribute funds to States in rank order, within funding and RA limits. A lottery in accordance with 7 CFR 3560.56(c)(2) will be used for applications with tied point scores when they all cannot be funded. If insufficient funds or RA remain for the next ranked proposal, that applicant will be given a chance to modify their application to bring it within remaining funding levels. This will be repeated for each next ranked eligible proposal until an award can be made or the list is exhausted.

Dated: April 12, 2007.
Russell T. Davis,
Administrator, Rural Housing Service.

[FR Doc. E7-7444 Filed 4-18-07; 8:45 am]

BILLING CODE 3410-XV-P